DEPARTMENT OF TRANSPORTATION

Federal Aviation Administration

Notice of Intent of Waiver With Respect to Land; Indianapolis International Airport, Indianapolis, Indiana

AGENCY: Federal Aviation Administration (FAA), DOT.

ACTION: Notice.

SUMMARY: The FAA is considering a proposal to change 24.813 acres of airport land from aeronautical use to non-aeronautical use and to authorize the sale of airport property located at Indianapolis International Airport, Indianapolis, Indiana. The aforementioned land is not needed for aeronautical use. The land is located east of Ronald Regan Parkway, on the northwest side of the airport. It is currently comprised of an agricultural field, woods, and a small storage building. The proposed future non-aeronautical land use is a life science park that will include buildings, parking and roadways.

DATES: Comments must be received on or before August 31, 2020.

ADDRESSES: Documents are available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241 Telephone: 317-487-5135.

Written comments on the Sponsor's request must be delivered or mailed to: Melanie Myers, Program Manager, Federal Aviation Administration, Chicago Airports District Office, 2300 East Devon Avenue, Des Plaines, Illinois 60018. Telephone: (847) 294-7525/Fax: (847) 294-7046.

FOR FURTHER INFORMATION CONTACT: Melanie Myers, Program Manager, Federal Aviation Administration, Chicago Airports District Office, 2300 East Devon Avenue, Des Plaines, Illinois, 60018. Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The property is made up of agricultural land and wooded areas. There is no aeronautical purpose for this land. It was acquired under Airport Improvement Program grant 3-18-0038-037. The airport sponsor is proposing to sell the land at fair market value for a life science park.

The disposition of proceeds from the sale of the airport property will be in accordance with FAA's Policy and Procedures Concerning the Use of Airport Revenue, published in the Federal Register on February 16, 1999 (64 FR 7696).

This notice announces that the FAA is considering the release of the subject airport property at the Indianapolis International Airport, Indianapolis, Indiana from federal land covenants, subject to a reservation for continuing right of flight as well as restrictions on the released property as required in FAA Order 5190.6B section 22.16. Approval does not constitute a commitment by the FAA to financially assist in the disposal of the subject airport property nor a determination of eligibility for grant-in-aid funding from the FAA.

Land Description:

Parcel 1

Owner: IAA

Bk. 327, pg. 180

Part of the West half of the Southeast Quarter of Section 20, Township 15 North, Range 2 East, Hendricks County, Indiana, described as follows:

Beginning at a railroad spike on the West line of said Quarter South 00 degrees 08 minutes 36 seconds West (assumed bearing) 885.23 feet from a railroad spike at the Northwest corner of said Quarter; thence South 89 degrees 37 minutes 26 seconds East 234.27 feet to a ⅝ inch rebar with cap marked “RS Firm 0018”; thence South 33 degrees 10 minutes 18 seconds East 19.05 feet to a ⅝ inch rebar with said cap; thence South 06 degrees 13 minutes 40 seconds West 204.11 feet to ⅝ inch rebar with said cap; thence South 82 degrees 34 minutes 43 seconds East 153.12 feet to a ⅝ inch rebar with said cap; thence South 79 degrees 39 minutes 23 seconds East 406.03 feet to a ⅝ inch rebar with said cap; thence North 88 degrees 29 minutes 57 seconds East 513.60 feet to a ⅝ inch rebar with said cap; thence South 66 degrees 53 minutes 44 seconds East 42.26 feet to a ⅝ inch rebar with said cap and the east line of said Half Quarter; thence South 00 degrees 02 minutes 44 seconds West 418.25 feet along said line to a ⅝ inch rebar with said cap; thence North 89 degrees 51 minutes 24 seconds West 541.99 feet to a ⅝ inch rebar with said cap; thence South 00 degrees 33 minutes 46 seconds West 41.79 feet to a ⅝ inch rebar with said cap; thence North 88 degrees 40 minutes 59 seconds West 266.43 feet to a ⅝ inch rebar with said cap; thence North 78 degrees 16 minutes 25 seconds West 205.94 feet to a ⅝ inch rebar with said cap; thence North 00 degrees 08 minutes 36 seconds East 374.80 feet to a ⅝ inch rebar with said cap; thence North 89 degrees 51 minutes 24 seconds West 317.20 feet to a railroad spike and the west line of said Quarter; thence North 00 degrees 08 minutes 36 seconds East 351.32 feet along said line to the point of beginning and containing 12.697 acres, more or less.

Parcel 5

Owner: IAA

Bk.327, pg.178

Part of the Southeast Quarter of the Southeast Quarter of Section 20, Township 15 North, Range 2 East, Hendricks County, Indiana, described as follows:

Beginning at a Harrison Monument at the Southeast corner of said Quarter; thence South 89 degrees 49 minutes 27 seconds West 1329.40 feet to a ⅝ inch rebar with cap at the Southwest corner of said Quarter; thence North 00 degrees 02 minutes 44 seconds East 516.66 feet along the west line of said Quarter to a ⅝ inch rebar with cap; thence South 49 degrees 24 minutes 09 seconds East 114.54 feet to a ⅝ inch rebar with cap; thence North 89 degrees 19 minutes 42 seconds East 101.76 feet to a ⅝ inch rebar with cap; thence South 36 degrees 14 minutes 04 seconds East 86.03 feet to a ⅝ inch rebar with cap; thence South 80 degrees 13 minutes 50 seconds East 285.60 feet to a ⅝ inch rebar with cap; thence South 66 degrees 36 minutes 28 seconds East 185.84 feet to a ⅝ inch rebar with cap; thence South 20 degrees 26 minutes 00 seconds East 69.64 feet to ⅝ inch rebar with cap; thence North 80 degrees 51 minutes 46 seconds East 185.75 feet to a ⅝ inch rebar with cap; thence South 83 degrees 30 minutes 38 seconds East 88.86 feet to a ⅝ inch rebar with cap; thence North 05 degrees 56 minutes 21 seconds East 117.87 feet to a ⅝ inch rebar with cap; thence North 89 degrees 56 minutes 51 seconds East 120.53 feet to a ⅝ inch rebar with cap; thence North 00 degrees 03 minutes 09 seconds West 303.78 feet to a ⅝ inch rebar with cap; thence North 20 degrees 35 minutes 13 seconds East 147.96 feet to a ⅝ inch rebar with cap; thence North 38 degrees 21 minutes 01 seconds East 150.47 feet to a ⅝ inch rebar with cap; North 30 degrees 47 minutes 39 seconds East 122.39 feet to a ⅝ inch rebar with cap and the east line at said Quarter; thence South 00 degrees 03 minutes 09 seconds East 984.57 feet along said line to the point of beginning and containing 12.116 acres, more or less.

Issued in Des Plaines, Illinois, on July 24, 2020.
Debra L. Bartell,
Manager, Chicago Airports District Office, FAA, Great Lakes Region.

[FR Doc. 2020-16465 Filed 7-29-20; 8:45 am]

BILLING CODE 4910-13-P